DEPARTMENT OF ENERGY

Federal Energy Regulatory Commission

[Docket Nos. ER09-1048-000; ER09-1049-000; ER09-1050-000; ER09-1192-000; ER09-1051-000; ER09-1063-000; ER09-1142-000]

California Independent System Operator Corporation; Midwest Independent Transmission System Operator, Inc; . Southwest Power Pool, Inc.; ISO New England, Inc. and New England Power Pool; PJM Interconnection, LLC; New York Independent System Operator, Inc.; Notice Providing Agenda for Technical Conference on RTO/ISO Responsiveness

January 8, 2010.

On November 13, 2009, the Commission issued a notice announcing that the Commission staff would hold a technical conference in the near future to address issues raised in the above-referenced Order No. 719 compliance proceedings.¹ The notice indicated that the date, time, and agenda for the conference would be announced in a subsequent notice.

¹ Wholesale Competition in Regions with Organized Electric Market, Order No. 719, 73 FR 64,100 (Oct. 28, 2008), FERC Stats & Regs. ¶ 31,281 (2008); order onreh'g, 74 FR 37,772 (July 29, 2009), 128 FERC ¶ 61,059 (2009) (Order No. 719-A).

The staff technical conference will be held on Thursday, February 4, 2010, from 12:30 p.m. to 4:30 p.m. (EST) in the Commission Meeting Room at the Commission's Washington, DC headquarters, 888 First Street, NE.

As described in the November 13 Notice, this conference is intended to provide a forum for participants to discuss issues related to the responsiveness of regional transmission organizations (RTOs) and independent system operators (ISOs) to their customers and other stakeholders. Various parties filed specific proposals in the above-referenced proceedings to address perceived problems with stakeholder and Board processes and configurations. For example, during the Order No. 719 compliance period, the Ohio Consumers' Council filed a motion to lodge a report on RTO/ISO governance written by the National Association of State Utility Consumer Advocates (NASUCA). In the report, NASUCA argues that existing RTO/ISO structures prevent effective participation by end-user consumers for three reasons: (1) The decision making process is complicated, (2) the decision making process is time intensive, and (3) most consumers and their advocates lack the resources required to meaningfully monitor and influence the stakeholder process. NASUCA argues that for these reasons, there is a lack of adequate retail consumer involvement under the current structure, which may lead to decisions that do not adequately consider the price of electricity to residential consumers.

To address these concerns, NASUCA recommends the Commission take action to reorganize the RTO/ISO stakeholder process and governance structure. First, NASUCA states that it is necessary to have all RTO/ISO Board meetings open to the public and include remote participation by teleconference wherever possible. Next, NASUCA proposes a revised governance structure that reflects consumer interests at the Board level, through the inclusion of two Board members with Consumer Advocate experience, at the Committee level, through a Standing Committee dedicated to Consumer Affairs, and within the RTO/ISO, through a Division of Consumer Affairs. NASUCA also recommends the creation of a funding mechanism, via RTO/ISO fees, which would provide resources for public representatives of consumers to support consumer positions at all levels of the stakeholder process.

In addition to the proposals made by NASUCA, other commenters argue that RTOs and ISOs must take further steps to satisfy the criteria established in Order No. 719 on responsiveness to customers and other stakeholders, including proposals to reduce the number of RTO and ISO meetings by streamlining approval processes and to include language in RTO and ISO mission statements reflecting consumer interests.

The technical conference will provide the Commission staff with the opportunity to further explore these concerns and proposals with the parties and the RTOs and ISOs. These dockets will remain open for 30 days following the conference in order to provide an opportunity for the filing of written comments. Attached is an agenda for the conference.

This conference will be webcast. All interested parties are invited, and there is no registration fee to attend.

FERC conferences are accessible under section 508 of the Rehabilitation Act of 1973. For accessibility accommodations please send an e-mail to accessibility@ferc.gov or call toll free (866) 208-3372 (voice) or (202) 502-8659 (TTY), or send a fax to (202) 208-2106 with the required accommodations.

Questions about the technical conference may be directed to Kurt Longo at kurt.longo@ferc.gov, (202) 502-8048.

Kimberly D. Bose,
Secretary.

[FR Doc. 2010-919 Filed 1-19-10; 8:45 am]

BILLING CODE 6717-01-P